DEPARTMENT OF THE INTERIOR

National Park Service

[NPS-SER-BISC-13990] [PX.P0108773E.00.1]

Supplemental Draft Environmental Impact Statement/General Management Plan, Biscayne National Park, Florida

AGENCY: National Park Service, Interior.

ACTION: Notice of Availability of a Supplemental Draft Environmental Impact Statement for the General Management Plan, Biscayne National Park.

SUMMARY: Pursuant to Section 102(2)(C) of the National Environmental Policy Act of 1969, 42 U.S.C. 4332(2)(C), the National Park Service (NPS) announces the availability of a Supplemental Draft Environmental Impact Statement/General Management Plan (Supplemental Draft EIS) for Biscayne National Park (Park), Florida. The Supplemental Draft EIS describes and analyzes two new alternatives that have been developed since the 2011 release of the Draft Environmental Impact Statement/General Management Plan (Draft EIS). A new NPS preferred alternative has been proposed that incorporates various management prescriptions to ensure protection and enjoyment of the Park's resources, while providing access for visitors.

DATES: The NPS will accept comments for a period of 90 days following publication of the Environmental Protection Agency's Notice of Availability in the Federal Register. We will announce the dates, times, and locations of public meetings on the Supplemental Draft EIS through the NPS Planning, Environment, and Public Comment (PEPC) Web site: http://parkplanning.nps.gov/BISC and media outlets.

ADDRESSES: Electronic copies of the Supplemental Draft EIS will be available online at http://parkplanning.nps.gov/BISC. A limited number of compact disks and printed copies will be also available at the Park headquarters, Biscayne National Park, 9700 SW 328 Street, Homestead, FL 33033-5634.

FOR FURTHER INFORMATION CONTACT: Superintendent Brian Carlstrom, Biscayne National Park, 9700 SW 328 Street, Homestead, FL 33033-5634 or by telephone at (305) 230-1144.

SUPPLEMENTARY INFORMATION: The NPS released the Draft EIS to the public in August 2011. Electronic copies of the Draft EIS can also be found online at http://parkplanning.nps.gov/BISC. During the public comment period, over 18,000 pieces of correspondence were received, which contained over 20,000 comments. A key component of the agency-preferred alternative in the Draft GMP/EIS was inclusion of a marine reserve zone. The marine reserve zone was proposed as an area in the park where fishing of any kind would be prohibited in order to allow a portion of the Park's coral reef ecosystem to recover and to offer visitors a high-quality visitor experience associated with a healthy, intact coral reef ecosystem. During the August 2011 public comment period, a number of substantive comments were received that identified both positive and negative impacts related to the establishment of the marine reserve zone. In particular, the Florida Fish and Wildlife Conservation Commission (FWC), with whom the National Park Service consults regarding fishing management actions in the Park, raised a number of significant issues about the NPS preferred alternative, including the marine reserve zone. The position of the State of Florida was that any consideration of a marine reserve zone could only occur after measurable management objectives have been clearly defined and less restrictive management measures have been appropriately implemented and evaluated in close coordination with agencies and stakeholders.

Based on the comments received, the NPS undertook an evaluative process to consider a number of management actions that could be deployed to achieve the goal of providing a diversified visitor use experience, while protecting the Park's natural and cultural resources. Two new alternatives (alternatives 6 and 7) were developed in consultation with the FWC and the National Oceanic and Atmospheric Administration. These alternatives contain many of the same elements as the original agency preferred alternative, such as continued pursuit of a visitor center partnership in the Miami area, except that instead of including a marine reserve zone, the alternatives include a new concept referred to as a special recreation zone. In developing the two new alternatives, the NPS and partner agencies are pursuing a new and novel approach to managing special marine ecosystems in a way that seeks to accomplish the same goals as a marine reserve while accommodating recreational fishing and providing a more enjoyable and diverse visitor experience. The two alternatives are described in detail in chapter 2 of the Supplemental Draft EIS. Chapter 4 describes the key impacts of implementing each of the two alternatives.

In alternative 6 (the new agency preferred alternative), the special recreation zone would include the following activities and limitations: Fishing would be allowed year-round, with a special permit required for access to fish recreationally. There would be some zone-specific fishing restrictions (e.g., no grouper or lobster take, no spearfishing), but in general all other state fishing regulations would apply. There would be no commercial fishing allowed in the special recreation zone, with exception of the existing ballyhoo lampara net fishery. Anchoring within the zone would be prohibited; however additional mooring buoys would be added over time as needed to disperse visitor use and improve the safety of diving operations. Snorkeling and diving would be encouraged, and marine debris would be removed throughout the zone to improve the overall visitor experience for these activities. Alternative 7 is similar to alternative 6 in that it includes a special recreation zone with many of the same zone-specific fishing limitations. Differing from alternative 6, alternative 7 would not require an access permit to fish in the zone, but the area would be closed to recreational fishing during the summer months (June to September). This period is when the coral reef ecosystem is most stressed by warm water conditions and would benefit greatest from a respite in fishing pressure.

Adaptive management would be used in both new alternatives to guide long-term decision-making. Both alternatives would employ a collaborative research and monitoring program (10-year Science Plan) to inform adaptive management decisions. Under alternative 6 only, in years three, five, and eight, the NPS would evaluate effort and take to determine if the original assumptions are being met. Effort and take, in this instance, refer to fishing intensity and total harvest of fish in the zone by permitted fishermen. If the assumptions of effort and take are being exceeded, a multi-agency team would evaluate whether to reduce the number of permits to be issued for following years. For both Alternatives 6 and 7, a multi-agency team would evaluate the need for other management actions that may be warranted to reduce recreational impacts, through the adaptive management process. Depending on site-specific observations and concerns, such actions might include adjustments to the number and location of mooring buoys, changes to public messaging and law enforcement effort, and increased effort to remove marine debris. For both alternatives, a panel of experts would be convened at years five and ten to provide recommendations on the Science Plan, the monitoring results, and long-term management. After ten years the NPS would consider monitoring trends and panel recommendations, and would consult with state and federal agencies before deciding whether to continue adaptively managing visitor use in the special recreation zone or implement a marine reserve zone.

If you wish to comment on the Supplemental Draft EIS, you may submit your comments by any one of several methods. We encourage you to comment via the internet on the PEPC Web site at http://parkplanning.nps.gov/BISC. An electronic public comment form is provided on this Web site. You may also comment via mail to: Biscayne National Park GMP, National Park Service, M. Elmer (DSC-P), P.O. Box 25287, Denver, CO 80225-0287; or by hand delivery to Park headquarters, located at the address listed above.

Before including your address, phone number, email address, or other personal identifying information in your comment, please be aware your entire comment—including your personal identifying information—may be made publicly available at any time. While you can ask us in your comment to withhold your personal identifying information from public review, we cannot guarantee that we will be able to do so.

The responsible official for this Supplemental Draft EIS is the Regional Director, NPS Southeast Region, 100 Alabama Street SW., 1924 Building, Atlanta, Georgia 30303.

Dated: November 8, 2013.
Sherri Fields,
Deputy Regional Director, Southeast Region.

[FR Doc. 2013-27578 Filed 11-15-13; 8:45 am]

BILLING CODE 4310-JD-P